DEPARTMENT OF AGRICULTURE

Food Safety and Inspection Service

[Docket No. FSIS-2008-0005]

Codex Alimentarius Commission: Meeting of the Codex Committee on Contaminants in Foods

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services (HHS), are sponsoring a public meeting on March 5, 2008. The objective of the public meeting is to provide information and receive public comments on agenda items and draft United States positions that will be discussed at the 2nd Session of the Codex Committee on Contaminants in Foods (CCCF) of the Codex Alimentarius Commission (Codex), which will be held in The Hague, The Netherlands, from March 31-April 4, 2008.

The Under Secretary for Food Safety and FDA recognize the importance of providing interested parties the opportunity to obtain background information on the 2nd Session of the CCCF and to address items that will be on the agenda.

DATES: The public meeting is scheduled for Wednesday, March 5, 2008, from 1 to 3 p.m.

ADDRESSES: The public meeting will be held in the Harvey Wiley Federal Building Auditorium, FDA, Center for Food Safety and Applied Nutrition (CFSAN), 5100 Paint Branch Parkway, College Park, MD 20740. Codex documents related to the 2nd Session of the CCCF are accessible via the World Wide Web at the following address: http://www.codexalimentarius.net/current.asp.

The U.S. Delegate to the CCCF, Dr. Nega Beru, invites interested U.S. parties to submit their comments electronically to the following e-mail address: henry.kim@fda.hhs.gov.

Registration: Register electronically to the same e-mail address above. Early registration is encouraged because it will expedite entry into the building and its parking area. If you require parking, please include the vehicle make and tag number, if known, when you register. Because the meeting will be held in a Federal building, you should also bring photo identification and plan for adequate time to pass through security screening systems.

FOR FURTHER INFORMATION ABOUT THE 2nd SESSION OF THE CCCF CONTACT: Dr. Henry Kim, Office of Food Safety, CFSAN, FDA, 5100 Paint Branch Parkway (HFS-317), College Park, MD 20740, Phone: (301) 436-2023, Fax: (301) 436-2651, e-mail: henry.kim@fda.hhs.gov.

For Further Information About the Public Meeting Contact: Edith Kennard, Staff Officer, U.S. Codex Office, Food Safety and Inspection Service (FSIS), Room 4861, South Building, 1400 Independence Avenue, SW., Washington, DC 20250, Phone: (202) 720-5261, Fax: (202) 720-3157, e-mail: edith.kennard@fsis.usda.gov.

SUPPLEMENTARY INFORMATION:

Background

The Codex Alimentarius Commission (Codex) was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The CCCF was established by the Commission in 2006 as a separate Committee to establish or endorse maximum levels for contaminants and naturally occurring toxicants in food and feed; to prepare priority lists of contaminants and naturally occurring toxicants for risk assessment by the Joint FAO/WHO Expert Committee on Food Additives (JECFA); to consider methods of analysis and sampling for determination of contaminants and naturally occurring toxicants in food and feed; to consider and elaborate standards or codes of practice for related subjects; and to consider other matters assigned to it by the Commission in relation to contaminants and naturally occurring toxicants in food and feed. The Committee is hosted by The Netherlands.

Issues to be Discussed at the Public Meeting

The following items on the agenda for the 2nd Session of the CCCF will be discussed during the public meeting:

• Matters Referred to the Committee from other Codex Bodies

• Matters of Interest arising from FAO and WHO

• Matters of Interest of the 68th JECFA

• Codex General Standard for Contaminants and Toxins in Foods (GSCTF)—Proposed Draft Revision to the Preamble

• Draft Maximum Levels for 3-MCPD in Liquid Condiments Containing Acid-HVP (Excluding Naturally Fermented Soy Sauce)

• Draft Code of Practice for the Reduction of Chloropropanols during the Production of Acid-Hydrolyzed Vegetable Proteins (HVPs) and Products that Contain Acid-HVPs

• Proposed Draft Code of Practice for the Reduction of Acrylamide in Food

• Proposed Draft Code of Practice for the Reduction of Contamination of Food with Polycyclic Aromatic Hydrocarbons (PAH) from Smoking and Direct Drying

• Draft Maximum Level for Ochratoxin A in Wheat, Barley and Rye

• Draft Maximum Levels for Total Aflatoxins in Almonds, Hazelnuts and Pistachios that are “For Further Processing” and “Ready-to-Eat”

• Proposed Draft Sampling Plan for Aflatoxin Contamination in Almonds, Brazil Nuts, Hazelnuts and Pistachios

• Discussion Paper on Maximum Levels for Total Aflatoxins in “Ready-to-Eat” Almonds, Hazelnuts and Pistachios

• Discussion Paper on Aflatoxin Contamination in Brazil Nuts

• Proposed Draft Code of Practice for the Prevention and Reduction of Aflatoxin Contamination in Dried Figs

• Discussion Papers on Ochratoxin A in Coffee and Cocoa

• Priority List of Contaminants and Naturally Occurring Toxicants Proposed for Evaluation by JECFA

Each item listed above will be fully described in documents distributed, or to be distributed, by the Secretariat prior to the March 31-April 4, 2008, meeting in The Hague. Members of the public may access copies of these documents at http://www.codexalimentarius.net/current.asp.

Public Meeting

At the March 5, 2008, public meeting, draft U.S. positions on the agenda items will be described and discussed, and attendees will have the opportunity to pose questions and offer comments. Written comments may be offered at the meeting or sent to, Dr. Henry Kim, at henry.kim@fda.hhs.gov. Written comments should state that they relate to activities of the 2nd Session of the CCCF.

Additional Public Notification

Public awareness of all segments of rulemaking and policy development is important. Consequently, in an effort to ensure that minorities, women, and persons with disabilities are aware of this notice, FSIS will announce it online through the FSIS Web page located at http://www.fsis.usda.gov/regulations/2008_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic mail subscription service which provides automatic and customized access to selected food safety news and information. This service is available at http://www.fsis.usda.gov/news_and_events/email_subscription/. Options range from recalls to export information to regulations, directives and notices. Customers can add or delete subscriptions themselves, and have the option to password protect their accounts.

Done at Washington, DC, on: February 27, 2008.
Paulo Almeida,
Acting U.S. Manager for Codex Alimentarius.

[FR Doc. E8-4056 Filed 2-29-08; 8:45 am]

BILLING CODE 3410-DM-P